NATIONAL AERONAUTICS AND SPACE ADMINISTRATION

[Notice: (16-033)]

NASA Advisory Council; Science Committee; Planetary Science Subcommittee; Meeting.

AGENCY: National Aeronautics and Space Administration.

ACTION: Notice of meeting.

SUMMARY: In accordance with the Federal Advisory Committee Act, Public Law 92-463, as amended, the National Aeronautics and Space Administration (NASA) announces a meeting of the Planetary Science Subcommittee of the NASA Advisory Council (NAC). This Subcommittee reports to the Science Committee of the NAC. The meeting will be held for the purpose of soliciting, from the scientific community and other persons, scientific and technical information relevant to program planning.

DATES: Tuesday, June 7, 2016, 1:00 p.m. to 5:00 p.m., Eastern Daylight Time (EDT).

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting will be open to the public telephonically and by WebEx. You must use a touch-tone phone to participate in this meeting. Any interested person may dial the USA toll free conference call number 1-877-918-923, passcode 1594921, to participate in this meeting by telephone. A toll number also is available, 1-630-395-0299, passcode 1594921. The WebEx link is https://nasa.webex.com/; the meeting number is 995 334 647, password is PSS@June7.

The agenda for the meeting includes the following topics:

—Planetary Science Division Update

—Planetary Science Division Research and Analysis Program Update

It is imperative that the meeting be held on this date to accommodate the scheduling priorities of the key participants.

Patricia D. Rausch,
Advisory Committee Management Officer, National Aeronautics and Space Administration.

[FR Doc. 2016-10811 Filed 5-6-16; 8:45 am]

BILLING CODE 7510-13-P